OFFICE OF THE UNITED STATES TRADE REPRESENTATIVE

Generalized System of Preferences (GSP); Deadline for Submitting Comments on the Withdrawal of GSP Benefits for Belarus and Schedule of Hearings and Deadlines for Submitting Comments on Petitions for the GSP 1999 Country Practices Review

AGENCY: Office of the United States Trade Representatives (USTR).

ACTION: Notice.

SUMMARY: The purpose of this notice is to set forth the timetables for (1) public comment on the proposal of the Trade Policy Staff Committee (TPSC) to withdraw GSP benefits from Belarus because of lack of progress on internationally recognized worker rights and (2) public hearings on petitions requesting modifications in the status of certain GSP beneficiary developing countries in regard to their intellectual property practices, as specified in 15 CFR 2007.(b)

FOR FURTHER INFORMATION CONTACT: GSP Subcommittee, Office of the United States Trade Representative, 600 17th Street, NW, Room 518, Washington, DC 20508 (Tel. 202/395-6971). Public versions of all documents relating to this review may be seen by appointment in the USTR public Reading Room between 9:30-12 a.m. and 1-4 p.m. (Tel. 202/395-6186).

SUPPLEMENTARY INFORMATION: The GSP program grants duty free treatment to designated eligible articles that are imported from designated beneficiary developing countries. The GSP program is authorized by Title V of the Trade Act of 1974, as amended (“Trade Act”) (19 U.S.C. 2461 et seq.) To Qualify for GSP privileges, each country must comply with several eligibility requirements set forth in sections 502(b) and 502(c) of the Trade Act (19 U.S.C. 2462(b) and 2462(cc)), including whether the country is taking steps to afford internationally recognized worker rights and the extent to which it is providing adequate and effective protection of the intellectual property rights. Once granted, GSP benefits may be withdrawn, suspended or limited by the President with respect to any article or with respect to any country. The statute also provides that if as a result of changed circumstances such country would be barred from designation as a beneficiary developing country under Act, the President shall, after notifying Congress, withdraw or suspend the designation of any country as a beneficiary country. (19 U.S.C. 2462(d)(2)).

I. Withdrawal of GSP Benefits for Belarus

In June 1997 the TPSC received a petition by the American Federation of Labor that requested a review of labor law and practice in Belarus under the auspices of the GSP program. This petition was accepted for review and public comment was received and hearings held. The United States also raised its concerns with the government of Belarus. Notwithstanding the subsequent dialogue with the Government of Belarus, the TPSC is unable to recommend that Belarus is “taking steps” to afford internationally recognized worker rights, as required by the GSP statute. Accordingly, absent a substantial improvement in Belarus labor practices, the TPSC proposes to recommend that the President withdraw all GSP benefits for Belarus.

A. Opportunity for Public Comment

This notice solicits public comments on the Trade Policy Staff Committee's proposal to withdraw GSP benefits for Belarus. All written comments should be addressed to: GSP Subcommittee, Office of the U.S. Trade Representative, 600 17th Street, N.W., Washington, D.C. 20508. All submissions must be in English and should conform to the information requirements of 15 CFR 2007. A party must provide fourteen copies of its statement which must be received by the Chairman of the GSP Subcommittee no later than 5 p.m., Thursday, March 9, 2000. Comments received after the deadline will not be accepted.

Comments should be submitted in fourteen (14) copies, in English, to the chairman of the GSP Subcommittee of the Trade Police Staff Committee, 600 17th Street, NW, Room 518, Washington, DC 20508. Information submitted will be subject to public inspection by appointment with the staff of the USTR public reading room, except for information granted “business confidential” status pursuant to 15 CFR 2003.6 and other qualifying information submitted in confidence pursuant to 15 CFR 2007.7. If the document contains business confidential information, an original and fourteen (14) copies of a nonconfidential version of the submission along with an original and fourteen (14) copies of the confidential version must be submitted. In addition, any document containing confidential information should be clearly market “confidential” at the top and bottom of each page of the document. The version that does not contain confidential information (the public version) should also be clearly marked at the top and bottom of every page (either “public version” or “nonconfidential”).

II. Petitions Accepted for Review Regarding Country Practices

Pursuant to 15 CFR 2007.0(b), the Trade Policy Staff Committee has accepted petitions to review the status of Armenia, the Dominican Republic, Kazakhstan, Moldova, Ukraine, and Uzbekistan as beneficiary developing countries in relation to their practices concerning intellectual property protection.

Any modifications to the list of beneficiary developing countries for purpose of the GSP program resulting from the Country Practices Review will take effect on such date as will be notified in a future Federal Register notice.

A. Opportunities for Public Comment

The GSP Subcommittee of the TPSC invites comments in support of, or in opposition to, any petition which is the subject of this notice. Submissions should comply with 15 CFR Part 2007, including sections 2007.0 and 2007.1. All submissions should identify the subject article(s) in terms of the current Harmonized Tariff Schedule of the United States (“HTS”) nomenclature.

Comments should be submitted in fourteen (14) copies, in English, to the Chairman of the GSP Subcommittee of the Trade Policy Staff Committee, 600 17th Street, NW, Room 518, Washington, DC 20508. Information submitted will be subject to public inspection by appointment with the staff of the USTR public reading room, except for information granted “business confidential” status pursuant tot 15 CFR 2003.6 and other qualifying information submitted in confidence pursuant to 15 CFR 2007.7. If the document contains business confidential information, an original and fourteen (14) copies of a nonconfidential version of the submission along with an original and fourteen (14) copies of the confidential version must be submitted. In addition, any document containing confidential information should be clearly marked “confidential” at the top and bottom of each page of the document. The version that does not contain confidential information (the public version) should also be clearly marked at the top and bottom of every page (either “public version” or “nonconfidential”). Comments should be submitted no later than 5 p.m. on March 9, 2000.

B. Notice of Public Hearings

Hearings will be held on April 3 and 4, 2000 beginning at 10:00 a.m. at the Office of the U.S. Trade Representative, 1724 F Street, N.W., Washington, D.C. The hearings will be open to the public and a transcript of the hearings will be made available for public inspection or can be purchased from the reporting company. No electronic media coverage will be allowed.

All interested parties wishing to present oral testimony at the hearings must submit the name, address, and telephone number of the witness(es) representing their organization to the Chairman of the GSP Subcommittee, Such requests to present oral testimony at the public hearings should be accompanied by fourteen (14) copies, in English, of a written brief or statement, and should be received by 5 p.m. on March 9, 2000. Oral testimony before the GSP Subcommittee will be limited to five minute presentations that summarize or supplement information contained in the briefs or statements submitted for the record. Post-hearing and rebuttal briefs or statements should conform to the regulations cited above and be submitted in fourteen (14) copies, in English, no later than 5 p.m. on April 21, 2000. Interested persons not wishing to appear at the public hearings may also submit pre-hearing written briefs or statements by 5:00 p.m. on March 9, 2000 and post-hearing and rebuttal written briefs or statements by April 21, 2000.

Jon Rosenbaum,
Assistant USTR for Trade and Development.

[FR Doc. 00-3400 Filed 2-11-00; 8:45 am]

BILLING CODE 3190-01-M